DEPARTMENT OF THE TREASURY

Fiscal Service

31 CFR Part 215

RIN 1510-AB06

Withholding of District of Columbia, State, City and County Income or Employment Taxes by Federal Agencies; Technical Amendment

AGENCY: Financial Management Service, Fiscal Service, Treasury.

ACTION: Technical amendment.

SUMMARY: This document contains a technical amendment to the final regulation (31 CFR 215.3), published in the Federal Register of Friday, January 13, 2006, (71 FR 2150). The regulation provides procedures for entering into a withholding agreement, including providing an address for the Secretary of the Treasury for withholding agreement consent letters. This document corrects the address to which the letters are sent.

DATES: Effective on August 23, 2010.

FOR FURTHER INFORMATION CONTACT: Agency Enterprise Solutions Division, 202-874-9428.

SUPPLEMENTARY INFORMATION:

I. Background

The procedures for entering into a withholding agreement provided in 31 CFR § 215.3 include an address to the Secretary of the Treasury for withholding agreement consent letters. The address provided in the published regulations indicates the Assistant Commissioner, Federal Finance, as the recipient. The address is amended to indicate the Assistant Commissioner, Payment Management, as the recipient of the letters.

II. Need for Correction

As published, the final regulations contain an inaccurate address which may cause delay delivery and processing.

List of Subjects in 31 CFR Part 215

State and local tax withholding, Federal employees.

Accordingly, 31 CFR part 215 is corrected by making the following technical amendments:

PART 215—WITHHOLDING OF DISTRICT OF COLUMBIA, STATE, CITY AND COUNTY INCOME OR EMPLOYMENT TAXES BY FEDERAL AGENCIES

1. The authority citation for part 215 continues to read as follows:

Authority: 5 U.S.C. 5516, 5517, 5520; E.O. 11997,42 FR 31759.

2. Revise the third sentence of paragraph (a) of § 215.3 to read as follows:

§ 215.3 Procedures for entering into a Withholding Agreement.

(a) * * * The letter shall be sent to the Secretary by addressing the request to: Assistant Commissioner, Payment Management, Financial Management Service, Department of the Treasury, 401 14th Street, SW., Washington, DC 20227. * * *

* * * * *

Dated: August 16, 2010.
Sheryl R. Morrow,
Assistant Commissioner, Payment Management.

[FR Doc. 2010-20684 Filed 8-19-10; 8:45 am]

BILLING CODE 4810-35-M